DEPARTMENT OF ENERGY

Federal Energy Regulatory Commission

Combined Notice of Filings #2

Take notice that the Commission received the following electric corporate filings:

Docket Numbers: EC20-52-000.

Applicants: Tenaska Lotus Holdings, LLC,41MB 8ME, LLC.

Description: Joint Application for Authorization Under Section 203 of the Federal Power Act, et al. of Tenaska Lotus Holdings, LLC, et al.

Filed Date: 4/20/20.

Accession Number: 20200420-5110.

Comments Due: 5 p.m. ET 5/11/20.

Take notice that the Commission received the following exempt wholesale generator filings:

Docket Numbers: EG20-127-000.

Applicants: Mountain Breeze Wind, LLC.

Description: Notice of Self-Certification of Exempt Wholesale Generator Status of Mountain Breeze Wind, LLC.

Filed Date: 4/20/20.

Accession Number: 20200420-5107.

Comments Due: 5 p.m. ET 5/11/20.

Take notice that the Commission received the following electric rate filings:

Docket Numbers: ER19-1132-003.

Applicants: NRG Cottonwood Tenant LLC.

Description: Compliance filing: Reactive Service Rate Schedule Compliance Filing to be effective 2/4/2019.

Filed Date: 4/20/20.

Accession Number: 20200420-5101.

Comments Due: 5 p.m. ET 5/11/20.

Docket Numbers: ER20-1604-000.

Applicants: EF Oxnard LLC.

Description: Baseline eTariff Filing: Market-Based Rates Application to be effective 6/14/2020.

Filed Date: 4/20/20.

Accession Number: 20200420-5118.

Comments Due: 5 p.m. ET 5/11/20.

Docket Numbers: ER20-1605-000.

Applicants: Tri-State Generation and Transmission Association, Inc.

Description: § 205(d) Rate Filing: Amendment to Tri-State MBR Tariff to be effective 6/20/2020.

Filed Date: 4/20/20.

Accession Number: 20200420-5127.

Comments Due: 5 p.m. ET 5/11/20.

Docket Numbers: ER20-1606-000.

Applicants: Midcontinent Independent System Operator, Inc., ALLETE, Inc.

Description: § 205(d) Rate Filing: 2020-04-20_SA 3470 MP-Manitoba Hydro-Electric Board 133 MW Energy Sale Agrmt to be effective 6/1/2020.

Filed Date: 4/20/20.

Accession Number: 20200420-5129.

Comments Due: 5 p.m. ET 5/11/20.

Docket Numbers: ER20-1607-000.

Applicants: PacifiCorp.

Description: § 205(d) Rate Filing: Colstrip Trans System LGIA—Concurrence Broadview Solar to be effective 4/9/2020.

Filed Date: 4/20/20.

Accession Number: 20200420-5133.

Comments Due: 5 p.m. ET 5/11/20.

Docket Numbers: ER20-1608-000.

Applicants: Mountain Breeze Wind, LLC.

Description: Baseline eTariff Filing: MBR Application to be effective 6/20/2020.

Filed Date: 4/20/20.

Accession Number: 20200420-5157.

Comments Due: 5 p.m. ET 5/11/20.

Docket Numbers: ER20-1609-000.

Applicants: Tri-State Generation and Transmission Association, Inc.

Description: § 205(d) Rate Filing: Amendment to Tri-State Rate Schedule FERC No. 56 to be effective 1/29/2020.

Filed Date: 4/20/20.

Accession Number: 20200420-5184.

Comments Due: 5 p.m. ET 5/11/20.

Docket Numbers: ER20-1610-000.

Applicants: Lone Tree Wind, LLC.

Description: Baseline eTariff Filing: MBR Application to be effective 6/20/2020.

Filed Date: 4/20/20.

Accession Number: 20200420-5186.

Comments Due: 5 p.m. ET 5/11/20.

Docket Numbers: ER20-1611-000.

Applicants: PJM Interconnection, L.L.C.

Description: § 205(d) Rate Filing: Original ISA, SA No. 5631; Queue No. AC1-098/AC1-099 to be effective 3/19/2020.

Filed Date: 4/20/20.

Accession Number: 20200420-5187.

Comments Due: 5 p.m. ET 5/11/20.

Docket Numbers: ER20-1612-000.

Applicants: Avista Corporation.

Description: § 205(d) Rate Filing: Avista Corp RS #T1166 Broadview Cert of Concurrence to be effective 4/9/2020.

Filed Date: 4/20/20.

Accession Number: 20200420-5188.

Comments Due: 5 p.m. ET 5/11/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 20, 2020.
Nathaniel J. Davis, Sr.,
Deputy Secretary.

[FR Doc. 2020-08770 Filed 4-23-20; 8:45 am]

BILLING CODE 6717-01-P